DEPARTMENT OF HEALTH AND HUMAN SERVICES

Food and Drug Administration

21 CFR Part 573

[Docket No. FDA-2014-F-0232]

Kemin Industries, Inc.; Filing of Food Additive Petition (Animal Use); Correction

AGENCY: Food and Drug Administration, HHS.

ACTION: Notice of Petition; Correction.

SUMMARY: The Food and Drug Administration (FDA) published a document in the Federal Register of March 10, 2014 (79 FR 13263), providing notice of a petition filed by Kemin Industries, Inc., that proposed the food additive regulations be amended to provide for the safe use of chromium propionate as a source of chromium in broiler feed. That petition included an environmental assessment which was not noted in the March 10 notice of petition.

DATES: The notice of petition is corrected as of July 8, 2014.

FOR FURTHER INFORMATION CONTACT: Isabel W. Pocurull, Center for Veterinary Medicine, Food and Drug Administration, 7519 Standish Pl., Rockville, MD 20855, 240-453-6853.

SUPPLEMENTARY INFORMATION: In FR Doc. 2014-05066, appearing on page 13263 in the Federal Register of Monday, March 10, 2014, the following corrections are made:

1. On page 13263, in the second column, remove the DATES section and add in its place the following:

DATES: Submit either electronic or written comments on the petitioner's environmental assessment by August 7, 2014.

2. On page 13263, in the second column, remove the second paragraph of the SUPPLEMENTARY INFORMATION and add in its place two paragraphs as follows:

We are reviewing the potential environmental impact of this petition. To encourage public participation consistent with regulations issued under the National Environmental Policy Act (40 CFR 1501.4(b)), we are placing the environmental assessment submitted with the petition that is the subject of this notice on public display at the Division of Dockets Management (see DATES and ADDRESSES) for public review and comment.

Interested persons may submit either electronic comments regarding this document to http://www.regulations.gov or written comments to the Division of Dockets Management (see ADDRESSES). It is only necessary to send one set of comments. Identify comments with the docket number found in brackets in the heading of this document. Received comments may be seen in the Division of Dockets Management between 9 a.m. and 4 p.m., Monday through Friday. We will post comments we receive to the docket at http://www.regulations.gov. We will also place on public display, in the Division of Dockets Management and at http://www.regulations.gov, any amendments to, or comments on, the petitioner's environmental assessment without further announcement in the Federal Register. If, based on our review, we find that an environmental impact statement is not required, and this petition results in a regulation, we will publish the notice of availability of our finding of no significant impact and the evidence supporting that finding with the regulation in the Federal Register in accordance with 21 CFR 25.51(b).

Dated: July 1, 2014.
Bernadette Dunham,
Director, Center for Veterinary Medicine.

[FR Doc. 2014-15761 Filed 7-7-14; 8:45 am]

BILLING CODE 4164-01-P